ENVIRONMENTAL PROTECTION AGENCY

40 CFR Part 451

[FRL-7415-6]

RIN 2040-AD55

Extension of Comment Period for Effluent Limitations Guidelines and New Source Performance Standards for the Concentrated Aquatic Animal Production Point Source Category; Proposed Rule

AGENCY: Environmental Protection Agency.

ACTION: Proposed rule; extension of comment period.

SUMMARY: EPA proposed effluent limitations guidelines and standards for the Concentrated Aquatic Animals Production (CAAP) Category on September 12, 2002. The proposed regulations would apply to discharges from certain facilities in the CAAP Category that grow, contain or produce aquatic animals above 100,000 pounds. EPA is extending the comment period by approximately six weeks. The comment period will now close on January 27, 2003. EPA has carefully considered the court-ordered promulgation date in making the decision to extend the comment period for this rulemaking.

DATES: Comments regarding the proposed rule will be accepted on or before January 27, 2003.

ADDRESSES: Send written comments to W-02-01, Ms. Marta E. Jordan, Engineering and Analysis Division (4303T), U.S. EPA, 1200 Pennsylvania Ave., NW., Washington, DC 20460. For hand-deliveries or Federal Express, please send comments to Ms. Marta E. Jordan, Office of Water, Engineering and Analysis Division, Room 6233M, 1301 Constitution Avenue, NW., 6th Floor, Connecting Wing, Washington, DC 20460. EPA requests an original and three copies of your written comments and enclosures (including copies of references). Comments may be sent by email to the following e-mail address: aquaticanimals@epa.gov.

FOR FURTHER INFORMATION CONTACT: Marta E. Jordan, Engineering and Analysis Division (4303T), U.S. Environmental Protection Agency, 1200 Pennsylvania Ave., NW., Washington, DC 20460. Telephone (202) 566-1049, fax (202) 566-1053 or E-Mail jordan.marta@epa.gov.

SUPPLEMENTARY INFORMATION: EPA proposed effluent limitations guidelines and standards for the CAAP Category on September 12, 2002, see 67 FR 57871. The proposed regulation would apply to producers of aquatic animals which produce at least 100,000 pounds of animals per year in one of three specific production systems. EPA proposed to establish requirements for the production of aquatic animals in flow through, recirculating, and net pen systems. EPA proposes to establish numeric limitations for Total Suspended Solids (TSS) in the wastewater discharged from flow through and recirculating systems. EPA also proposes to require the development and implementation of Best Management Practices (BMPs) to control the discharge of pollutants from flow through, recirculating and net pens systems. EPA described the bases for these requirements in section VIII of the preamble to the proposed regulation (67 FR 57895).

EPA held three public meetings to provide an overview of the proposed rule and opportunities for the regulated community and other interested parties to ask questions on issues pertaining to the proposed rule.

EPA received several requests to extend the comment period to allow more time to address the issues on which EPA solicited public comment. The requests for an extension pointed out that this is a very busy season for a large portion of this industry. Many sectors are involved in harvest through the fall months. EPA agrees that many producers may need more time to develop comments to the proposal. The comment period for the proposed rule is extended until January 27, 2003.

EPA is scheduled to take final action on effluent limitations guidelines and new source performance standards for this industry by June 2004. EPA is using its best efforts to comply with this deadline and expects to meet the schedule even with this extension of the comment period.

Dated: November 25, 2002.
G. Tracy Mehan, III,
Assistant Administrator for Water.

[FR Doc. 02-30466 Filed 11-29-02; 8:45 am]

BILLING CODE 6560-50-P